DEPARTMENT OF AGRICULTURE

Office of the Secretary

[Docket No. APHIS-2007-0015]

Privacy Act Systems of Records; APHIS National Animal Identification System (NAIS)

AGENCY: Office of the Secretary, USDA.

ACTION: Notice of a proposed new system of records; request for comment.

SUMMARY: In accordance with the Privacy Act of 1974, as amended, the U.S. Department of Agriculture (USDA) proposes to add a system of records to its inventory of records systems. The system of records being proposed is the APHIS National Animal Identification System (NAIS). This notice is necessary to meet the requirements of the Privacy Act to publish in the Federal Register notice of the existence and character of record systems maintained by the agency.

Although the Privacy Act requires only that the portion of the system that describes “routine uses” of the system be published for comment, we invite comment on all portions of this notice.

DATES: Effective Date: This system will be adopted without further notice on June 9, 2008 unless modified to respond to comments received from the public and published in a subsequent notice.

Comment date: Comments must be received, in writing, on or before May 30, 2008.

ADDRESSES: You may submit comments by either of the following methods:

• Federal eRulemaking Portal: Go to http://www.regulations.gov/fdmspublic/component/main?main=­DocketDetail&d=APHIS-2007-0015, and follow the instructions for submitting comments.

• Postal Mail/Commercial Delivery: Docket No. APHIS-2007-0015, Regulatory Analysis and Development, PPD, APHIS, Station 3A-03.8, 4700 River Road Unit 118, Riverdale, MD 20737-1238.

Docket: You may view comments we receive at the Federal eRulemaking Portal (Web address above) or in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Mr. Vince Chapman, Program Analyst, National Animal Identification System, VS, APHIS, 4700 River Road Unit 200, Riverdale, MD 20737; (301) 734-0739.

SUPPLEMENTARY INFORMATION: The Privacy Act of 1974, as amended (5 U.S.C. 552a), requires agencies to publish in the Federal Register notice of new or revised systems of records maintained by the agency. A system of records is a group of any records under the control of any agency, from which information is retrieved by the name of an individual or by some identifying number, symbol, or other identifying particular assigned to an individual.

The Animal and Plant Health Inspection Service (APHIS) of the U.S. Department of Agriculture (USDA) is proposing to add a new system of records, entitled the National Animal Identification System (NAIS), that will be used to maintain a record of activities conducted by the agency pursuant to its mission and responsibilities authorized by the Animal Health Protection Act (7 U.S.C. 8301 et seq.). The NAIS is a cooperative State-Federal-industry program administered by APHIS. The NAIS is a streamlined information system that helps producers and animal health officials respond quickly and effectively to animal disease events in the United States. The goal of NAIS, for which participation at the Federal level is voluntary, is to have the information necessary to trace all animals associated with an incident of an animal disease within 48 hours in order to limit disease spread and thereby reduce the impact of disease on America's agricultural producers.

The first component of the program, premises registration, is well underway and the second component, animal identification, is being implemented for several species. The third component, animal tracing, is currently under development with USDA's State and industry partners. Industry, through private systems, and States will manage the animal tracking databases that maintain the movement records of animals. These information systems will provide the location of a subject animal and the records of other animals that the subject animal came into contact with at each premises, should such information be requested in response to a disease event or other activity as defined in the agreement with the organization that maintains the animal tracking database.

USDA's portion of this information system consists of the Standardized Premises Registration System (SPRS), the National Premises Information Repository (NPIR), the Animal Identification Number Management System (AINMS), and the Animal Trace Processing System (ATPS). These components of the NAIS facilitate the registration of premises where livestock and poultry are housed or kept and the identification of animals or groups of animals. They also allow Federal and State efforts to obtain access to animal movement information held in State and private animal tracking databases when such information is needed to investigate an animal disease event.

Routine Uses of Records Maintained in the System, Including Categories of Users and the Purposes of Such Uses

APHIS may routinely share information contained in USDA's portion of the NAIS with Federal and State animal health officials during an incident of an animal disease, bioterrorism, or other animal health event. APHIS may disseminate information to Federal and State animal health officials within the system for educational purposes and to obtain feedback regarding the NAIS program and emergency preparedness guidelines. Other routine uses of this information include releases related to investigations pertaining to violations of law or related to litigation. A complete listing of the routine uses for this system is included in this notice.

The information collection requests associated with this system have been approved by the Office of Management and Budget (OMB) under the Paperwork Reduction Act.

Title and Business Address of the Agency Official Responsible for the System of Record

Chief Information Officer, U.S. Department of Agriculture, 1400 Independence Ave., SW., Washington, DC 20250.

Report on a New System of Records

A report on the new system of records, required by 5 U.S.C. 552a(r), as implemented by OMB Circular A-130, was sent to the Chairman, Committee on Homeland Security and Governmental Affairs, United States Senate; the Chairman, Committee on Oversight and Government Reform, U.S. House of Representatives; and the Administrator, Office of Information and Regulatory Affairs, Office of Management and Budget.

Dated: April 17, 2008.
Edward T. Schafer,
Secretary.

System name:

National Animal Identification System (NAIS), USDA-APHIS-16.

This system consists of the Standardized Premises Registration System (SPRS), the National Premises Information Repository (NPIR), the Animal Identification Number Management System (AINMS), and the Animal Trace Processing System (ATPS).

Security classification:

None.

System location:

The master data for the NAIS reside on servers in the computer room at the USDA National Information Technology Center in Kansas City, MO. A backup site for the data is located at the APHIS Centers for Epidemiology and Animal Health in Ft. Collins, CO.

Categories of individuals covered by the system:

Livestock producers and individuals who are responsible for the care of livestock and poultry; individuals who are the contact person for locations where animals are marketed, assembled, exhibited, treated, processed, etc.; manufacturers of animal identification devices; and companies that maintain animal tracking databases.

Categories of records in the system:

Records may include name of entity; contact person for premises; street address of premises, including city, State and postal code; latitude/longitude coordinates or global positioning system (GPS) coordinates of the premises; telephone number(s) and e-mail address of contact person for premises; type of operation (e.g., production, market, exhibition, or slaughter plant); the date the premises registration was activated; the date the premises registration was retired; and the reason the registration was retired; animal identification numbers, premises identification numbers, and nonproducer participant numbers. Animal identification number tag manufacturers and companies providing animal tracking data may be required to provide business internet address (URL).

Authority for maintenance of the system:

The authority for maintenance of this system is the Animal Health Protection Act (7 U.S.C. 8301 et seq.).

Purpose(s):

The NAIS is a cooperative State-Federal-industry program administered by the Animal and Plant Health Inspection Service (APHIS), U.S. Department of Agriculture (USDA). The NAIS is an information system that will help producers and animal health officials respond quickly and effectively to animal disease events in the United States. Routine uses of records maintained in the system, including categories of users and the purposes of such uses:

In addition to those disclosures generally permitted under 5 U.S.C. 552a(b) of the Privacy Act, records maintained in the system may be disclosed outside USDA as follows:

(1) To Federal and State animal health officials in order to contain and respond to a foreign animal disease event, bioterrorism, or other animal health event. Use of the information contained in the NAIS aids in the determination of the origin of an incident of an animal disease and in the location of exposed and potentially exposed animals;

(2) To Federal and State animal health officials within the system to obtain feedback regarding the NAIS program and emergency preparedness guidelines; to educate and involve them in program development, program requirements, and standards of conduct; and to validate such information;

(3) To the appropriate agency, whether Federal, State, local, or foreign, charged with responsibility of investigating or prosecuting a violation of law or of enforcing, implementing, or complying with a statute, rule, regulation, or order issued pursuant thereto, of any record within this system when information available indicates a violation or potential violation of law, whether civil, criminal, or regulatory in nature, and either arising by general statute or particular program statute, or by rule, regulation, or court order issued pursuant thereto;

(4) To the Department of Justice when the agency, or any component thereof, or any employee of the agency in his or her official capacity, or any employee of the agency in his or her individual capacity where the Department of Justice has agreed to represent the employee or the United States, in litigation, where the agency determines that litigation is likely to affect the agency or any of its components, is a party to litigation or has an interest in such litigation, and the use of such records by the Department of Justice is deemed by the agency to be relevant and necessary to the litigation; provided, however, that in each case, the agency determines that disclosure of the records to the Department of Justice is a use of the information contained in the records that is compatible with the purpose for which the records were collected;

(5) For use in a proceeding before a court or adjudicative body before which the agency is authorized to appear, when the agency, or any component thereof, or any employee of the agency in his or her official capacity, or any employee of the agency in his or her individual capacity where the agency has agreed to represent the employee, or the United States, where the agency determines that litigation is likely to affect the agency or any of its components, is a party to litigation or has an interest in such litigation, and the agency determines that use of such records is relevant and necessary to the litigation; provided, however, that in each case, the agency determines that disclosure of the records to the court is a use of the information contained in the records that is compatible with the purpose for which the records were collected;

(6) To appropriate agencies, entities, and persons when the agency suspects or has confirmed that the security or confidentiality of information in the system of records has been compromised; the agency has determined that as a result of the suspected or confirmed compromise there is a risk of harm to economic or property interests, a risk of identity theft or fraud, or a risk of harm to the security or integrity of this system or other systems or programs (whether maintained by the agency or another agency or entity) that rely upon the compromised information; and the disclosure made to such agencies, entities, and persons is reasonably necessary to assist in connection with the agency's efforts to respond to the suspected or confirmed compromise and prevent, minimize, or remedy such harm;

(7) To contractors and other parties engaged to assist in administering the program. Such contractors and other parties will be bound by the nondisclosure provisions of the Privacy Act. This routine use assists the agency in carrying out the program, and thus is compatible with the purpose for which the records are created and maintained;

(8) To USDA contractors, partner agency employees or contractors, or private industry employed to identify patterns, trends or anomalies indicative of fraud, waste, or abuse. Such contractors and other parties will be bound by the nondisclosure provisions of the Privacy Act; and

(9) To the National Archives and Records Administration or to the General Services Administration for records management inspections conducted under 44 U.S.C. 2904 and 2906.

Disclosure to consumer reporting agencies:

None.

Policies and practices for storing, retrieving, accessing, retaining, and disposing of records in the system:

Storage:

The electronic master data for the NAIS is stored on servers. All servers for the NAIS are backed up nightly. Backup media is taken weekly to an offsite storage facility and stored on tape.

Retrievability:

Data can be retrieved by animal identification number, premises identification number, premises address, and name of contact person for the premises.

Safeguards:

The data is kept in a secure environment accessible only by authorized users provided a user ID and password by USDA personnel. The computer room has safeguards that limit physical access. Electronic users are required to obtain USDA Level 2 eAuthentication credentials, and user roles limit access to the data. Access is monitored by USDA officials to ensure authorized and appropriate use of the data.

Retention and disposal:

Electronic NAIS data is currently retained on the servers for an indefinite time.

System manager(s) and address:

Senior Staff Officer—NAIS Coordinator, Veterinary Services, APHIS, 4700 River Road Unit 200, Riverdale, MD 20737.

Notification procedure:

Any individual may request general information regarding this system of records or information as to whether the system contains records pertaining to him/her from the system manager at the address above. All inquiries pertaining to this system should be in writing, must name the system of records as set forth in the system notice, and must contain the individual's name, telephone number, address, and e-mail address.

Record access procedures:

Any individual may obtain information from a record in the system that pertains to him or her. Requests for hard copies of records should be in writing, and the request must contain the requesting individual's name, address, name of the system of records, timeframe for the records in question, any other pertinent information to help identify the file, and a copy of his/her photo identification containing a current address for verification of identification. All inquiries should be addressed to the Freedom of Information and Privacy Act Staff, Legislative and Public Affairs, APHIS, 4700 River Road Unit 50, Riverdale, MD 20737-1232.

Contesting record procedures:

Any individual may contest information contained within a record in the system that pertains to him/her by submitting a written request to the system manager at the address above. Include the reason for contesting the record and the proposed amendment to the information with supporting documentation to show how the record is inaccurate.

Record source categories:

Information in the NAIS comes from members of the public, either individuals or businesses, involved in or supporting the production, management, or holding of livestock or poultry.

Exemptions claimed for the system:

None.

[FR Doc. E8-9419 Filed 4-29-08; 8:45 am]

BILLING CODE 3410-34-P